CORPORATION FOR NATIONAL AND COMMUNITY SERVICE

Information Collection; Emergency Submission for OMB Review, Comment Request

AGENCY: Corporation for National and Community Service.

ACTION: Notice.

SUMMARY: The Corporation for National and Community Service (hereinafter the “Corporation”), has submitted an emergency public information collection request (ICR) entitled AmeriCorps VISTA Recovery Act Progress Report Supplement to the Office of Management and Budget (OMB) for review and approval within seven days of submission. This action is being implemented in accordance with OMB guidance and the Paperwork Reduction Act of 1995, Public Law 104-13, (44 U.S.C. Chapter 35). A copy of this ICR, with applicable supporting documentation may be obtained by contacting the Corporation for National Service, AmeriCorps VISTA, Craig Kinnear, Program Analyst, (202) 606-6708, or by e-mail at ckinnear@cns.gov. Individuals who use a telecommunications device for the deaf (TTY-TDD) may call (202) 565-2799 between 8:30 a.m. and 5 p.m. Eastern Time, Monday through Friday.

ADDRESSES: You may submit comments, identified by the title of the information collection activity, to (1) Corporation for National and Community Service, and (2) the Office of Information and Regulatory Affairs. Please send comments to:

(1) Corporation for National and Community Service, Attn: Craig Kinnear, Program Analyst, AmeriCorps VISTA by any of the following two methods within 30 days from the date of publication in this Federal Register:

(a) By fax to: (202) 606-3475 Attention: Craig Kinnear, Program Analyst, AmeriCorps VISTA; and

(b) Electronically by e-mail to ckinnear@cns.gov. and

(2) Office of Information and Regulatory Affairs, Attn: Ms. Sharon Mar, OMB Desk Officer for the Corporation for National and Community Service, by any of the following two methods within 30 days from the date of publication in this Federal Register:

(a) By fax to: (202) 395-6974, Attention: Ms. Sharon Mar, OMBH Desk Officer for the Corporation for National and Community Service; and

(b) Electronically by e-mail to smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and,

• Propose ways to minimize the burden of the collection of information on those who are to respond, including through the use of appropriate automated, electronic, mechanical, or other technological collection techniques or other forms of information technology (e.g., permitting electronic submissions of responses).

Current Action

The Corporation seeks to enhance data elements collected via these information collection tools.

Type of Review: New.

Agency: Corporation for National and Community Service.

Title: VISTA Recovery Act Progress Report Supplement.

OMB Number: New.

Agency Number: None.

Affected Public: AmeriCorps*VISTA sponsoring organizations (includes nonprofit organizations and state, local and tribal agencies).

Total Respondents: 950.

Frequency: Quarterly.

Average Time per Response: 1 hour.

Estimated Total Burden Hours: 3,800.

Total Burden Cost (capital/startup): None.

Total Burden Cost (operating/maintenance): None.

Dated: March 11, 2009.
Paul Davis,
Acting Director, AmeriCorps*VISTA.

[FR Doc. E9-5669 Filed 3-13-09; 8:45 am]

BILLING CODE 6050-$$-P